DEPARTMENT OF COMMERCE

Bureau of Industry of Security

15 CFR Part 740

[Docket No. 200204-0044]

RIN 0694-AH93

Amendments to Country Groups for Russia and Yemen Under the Export Administration Regulations

AGENCY: Bureau of Industry and Security, Commerce.

ACTION: Final rule; correcting amendment.

SUMMARY: The Bureau of Industry and Security (BIS) publishes this document to correct a final rule published in the Federal Register on February 24, 2020 (February 24th rule), in which BIS amended the Export Administration Regulations (EAR) to revise the Country Group designations for the Russian Federation (Russia) and Yemen based on national security and foreign policy concerns, including proliferation-related concerns. This document corrects the final rule to provide an instruction to remove Yemen from Country Group B, as was described in the preamble of the February 24th rule.

DATES: This correction is effective March 6, 2020 and is applicable on February 24, 2020.

FOR FURTHER INFORMATION CONTACT: Jodi Kouts, Director, Chemical and Biological controls Division, at email Jodi Kouts@bis.doc.gov or by phone at (202) 482-6109.

SUPPLEMENTARY INFORMATION: For the reasons described in the preamble and the authority as set out in the February 24, 2020 final rule (85 FR 10274), this document provides the correcting amendment to remove “Yemen” from the list of “Country Group B—Countries” in Supplement No. 1 to part 740 of the EAR.

List of Subjects in 15 CFR Part 740

Administrative practice and procedure, Exports, Reporting and recordkeeping requirements.

Accordingly, part 740 of the Export Administration Regulations (15 CFR parts 730-774) is corrected by making the following correcting amendment:

PART 740—LICENSE EXCEPTIONS

1. The authority citation for part 740 continues to read as follows:

Authority: 50 U.S.C. 4801-4852; 50 U.S.C. 4601 et seq.; 50 U.S.C. 1701 et seq.; 22 U.S.C. 7201 et seq.; E.O. 13026, 61 FR 58767, 3 CFR, 1996 Comp., p. 228; E.O. 13222, 66 FR 44025, 3 CFR, 2001 Comp., p. 783.

Supplement No. 1 to Part 740 [Amended]

2. Supplement No. 1 part 740 is amended by removing “Yemen” from “Country Group B—Countries”.

Dated: February 25, 2020.
Matthew S. Borman,
Deputy Assistant Secretary for Export Administration.

[FR Doc. 2020-04178 Filed 3-5-20; 8:45 am]

BILLING CODE 3510-33-P